FEDERAL COMMUNICATIONS COMMISSION

47 CFR Part 80

[WT Docket No. 00-48; FCC 02-102; RM-9499]

Maritime Communications

AGENCY: Federal Communications Commission.

ACTION: Proposed rule.

SUMMARY: In this document the Commission solicits comment on the Commission's Rules regarding Maritime Communications. These comments will aid the Commission in establishing rules to further the implementation of the Global Maritime Distress and Safety System (GMDSS) and continue the process of streamlining, consolidating and revising domestic maritime radio regulations. In addition, the comments will aid the Commission in understanding the impact the proposed changes may have on the maritime community, including vessel operators, manufacturers of marine radio equipment, and commercial radio operator licensees. The comments will provide the Commission with feedback that will allow it to better craft rules that will enhance safety while at the same time avoiding the imposition of unnecessary or unwarranted burdens on regulated entities.

DATES: Written comments are due on or before August 15, 2002 and reply comments are due on or before September 16, 2002.

ADDRESSES: Commission's Secretary, Marlene H. Dortch, Office of the Secretary, Federal Communications Commission, 445 12th St., SW., Washington, DC 20554. Filings can be sent first class by the US Postal Service, by an overnight courier or hand and messenger-delivered. Hand and message-delivered paper filings must be delivered to 236 Massachusetts Avenue, NE., Suite 110, Washington, DC 20002. Overnight courier (other than U.S. Postal Service Express Mail and Priority Mail) must be sent to 9300 East Hampton Drive, Capitol Heights, MD 20743.

FOR FURTHER INFORMATION CONTACT: Jeffrey Tobias, jtobias@FCC.gov, or Ghassan Khalek, gkhalek@fcc.gov, Policy and Rules Branch, Public Safety and Private Wireless Division, Wireless Telecommunications Bureau, (202) 418-0680, or TTY (202) 418-7233.

SUPPLEMENTARY INFORMATION: This is a summary of the Federal Communications Commission's Further Notice of Proposed Rule Making, FCC 02-102, adopted on March 27, 2002, and released on April 9, 2002. The full text of this document is available for inspection and copying during normal business hours in the FCC Reference Center, 445 12th Street, SW., Washington, DC 20554. The complete text may be purchased from the Commission's copy contractor, Qualex International, 445 12th Street, SW., Room CY-B402, Washington, DC 20554. The full text may also be downloaded at: www.fcc.gov. Alternative formats are available to persons with disabilities by contacting Brian Millin at (202) 418-7426 or TTY (202) 418-7365 or at bmillin@fcc.gov.

1. In this Further Notice of Proposed Rule Making, we solicit comment on whether we should: (1) Establish a voluntary restricted GMDSS license or take other measures to address the needs of recreational vessel operators; (2) clarify or change the safety watch obligations of public coast stations; (3) permit unattended operation of non-DSC equipment; (4) prohibit ship stations from including any device capable of transmitting on a distress frequency without regulatory authorization; (5) delete any existing emission classes; (6) permit the use of Channels 75 and 76 for navigation-related port operations, subject to specified power limits, and also require that transmitters operating on such channels be limited to the specified power limits, with no manual override capability; (7) codify in the Rules the RTCM's Recommended Practices for DSC equipment; (8) revise our radiotelephone and radiotelegraph distress call and message transmission procedures to incorporate DSC and GMDSS procedures; (9) authorize the use of INMARSAT-E EPIRBs by U.S. vessels operating solely within the INMARSAT coverage footprint; (10) require that small passenger vessels be outfitted with DSC equipment; (11) mandate that, on passenger ships, at least one qualified person be assigned to perform only radio communications duties during distress situations; and (12) incorporate additional SOLAS requirements for equipment in Subpart W. We also seek comment on issues pertaining to e-mail requests, Part 80 tables of frequencies, GMDSS radio operator examination requirements, and Part 80 cross-references to Part 2 of the Rules.

I. Procedural Matters

A. Ex Parte Rules—Permit-But-Disclose Proceeding

2. This is a permit-but-disclose notice and comment rulemaking proceeding. Ex parte presentations are permitted, except during the Sunshine Agenda period, provided they are disclosed as provided in our Rules.

B. Comment Dates

3. Pursuant to §§ 1.415 and 1.419 of our Rules, 47 CFR 1.415, 1.419, interested parties may file comments on or before August 15, 2002 and reply comments on or before September 16, 2002. Comments may be filed using the Commission's Electronic Filing System (ECFS) or by filing paper copies.

4. Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply. Parties who choose to file by paper must file an original and four copies of each filing. If more than one docket or rulemaking number appears in the caption of this proceeding, commenters must submit two additional copies for each additional docket or rulemaking number. All filings must be addressed to the Commission's Secretary, Marlene H. Dortch, Office of the Secretary, Federal Communications Commission, 445 12th St., SW., Washington, DC 20554. Filings can be sent first class by the U.S. Postal Service, by an overnight courier or hand and message-delivered. Hand and message-delivered paper filings must be delivered to 236 Massachusetts Avenue, NE., Suite 110, Washington, DC 20002. Overnight courier (other than U.S. Postal Service Express Mail and Priority Mail) must be sent to 9300 East Hampton Drive, Capitol Heights, MD 20743.

5. Parties who choose to file by paper should also submit their comments on diskette. These diskettes should be submitted to: Jeffrey Tobias, Esq., Public Safety and Private Wireless Division, Wireless Telecommunications Bureau, 445 12th St., SW., Room 2-C828, Washington, DC 20554. Such a submission should be on a 3.5 inch diskette formatted in an IBM compatible format using Microsoft Word 97 or compatible software. The diskette should be accompanied by a cover letter and should be submitted in “read only” mode. The diskette should be clearly labeled with the commenter's name, proceeding (including the lead docket number in this case, WT Docket No. 00-48), type of pleading (comment or reply comment), date of submission, and the name of the electronic file on the diskette. The label should also include the following phrase “Disk Copy—Not an Original.” Each diskette should contain only one party's pleadings, preferably in a single electronic file. In addition, commenters should send diskette copies to the Commission's copy contractor, Qualex International, Inc., 445 12th Street, SW., Room CY-B402, Washington, D.C. 20054.

C. Paperwork Reduction Act

6. This Further Notice of Proposed Rule Making does not contain any new or modified information collection.

II. Initial Regulatory Flexibility Analysis

7. As required by the Regulatory Flexibility Act (RFA), the Commission has prepared this present Initial Regulatory Flexibility Analysis (IRFA) of the possible significant economic impact on small entities of the policies and rules proposed in the Further Notice of Proposed Rule Making in WT Docket No. 00-48 (FNPRM). Written public comments are requested on this IRFA. Comments must be identified as responses to the IRFA and must be filed by the deadlines for comments on the FNPRM as provided in paragraph 142 of the item. The Commission will send a copy of the FNPRM, including this IRFA, to the Chief Counsel for Advocacy of the Small Business Administration. In addition, the FNPRM and IRFA (or summaries thereof) will be published in the Federal Register.

A. Need for, and Objectives of, the Proposed Rules:

8. The proposed rules in the FNPRM are intended to further streamline, consolidate and clarify the Commission's Part 80 Rules; remove unnecessary or duplicative requirements; address new international maritime requirements; and promote flexibility and efficiency in the use of marine radio equipment in a manner that will further maritime safety. In the FNPRM, we request comment specifically on whether we should: (1) Establish a voluntary restricted GMDSS license or take other measures to address the needs of recreational vessel operators; (2) clarify or change the safety watch obligations of public coast stations; (3) permit unattended operation of non-DSC equipment; (4) prohibit ship stations from including any device capable of transmitting on a distress frequency without regulatory authorization; (5) delete any existing emission classes; (6) permit the use of Channels 75 and 76 for navigation-related port operations, subject to specified power limits, and also require that transmitters operating on such channels be limited to the specified power limits, with no manual override capability; (7) codify in the Rules the RTCM's Recommended Practices for DSC equipment; (8) revise our radiotelephone and radiotelegraph distress call and message transmission procedures to incorporate DSC and GMDSS procedures; (9) authorize the use of INMARSAT-E EPIRBs by U.S. vessels operating solely within the INMARSAT coverage footprint; (10) require that small passenger vessels be outfitted with DSC equipment; (11) mandate that, on passenger ships, at least one qualified person be assigned to perform only radio communications duties during distress situations; and (12) incorporate additional SOLAS requirements for equipment in Subpart W. We also seek comment on issues pertaining to e-mail requests, Part 80 tables of frequencies, GMDSS radio operator examination requirements, and Part 80 cross-references to Part 2 of the Rules.

B. Legal Basis

9. Authority for issuance of this item is contained in Sections 4(i), 303(r), and 403 of the Communications Act of 1934, as amended, 47 U.S.C. 154(i), 303(r) and 403.

C. Description and Estimate of the Number of Small Entities to Which the Proposed Rules Will Apply

10. Under the RFA, small entities may include small organizations, small businesses, and small governmental jurisdictions, or entities. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one that: (1) Is independently owned and operated; (2) is not dominant in its field of operation; and (3) satisfies any additional criteria established by the SBA. Pursuant to 5 U.S.C. § 601(3), the statutory definition of a small business applies “unless an agency after consultation with the Office of Advocacy of the SBA, and after opportunity for public comment, establishes one or more definitions of such term which are appropriate to the activities of the agency and publishes such definition(s) in the Federal Register.”

11. Small businesses in the aviation and marine radio services use a marine very high frequency (VHF) radio, any type of emergency position indicating radio beacon (EPIRB) and/or radar, a VHF aircraft radio, and/or any type of emergency locator transmitter (ELT). The Commission has not developed a definition of small entities specifically applicable to these small businesses. For purposes of this IRFA, therefore, the applicable definition of small entity is the definition under the SBA rules applicable to radiotelephone (wireless) communications. This definition is that a “small entity” for purposes of public coast station licensees, a subgroup of marine radio users, is any entity employing 1,500 of fewer persons. 13 CFR 121.201, Standard Industrial Classification (SIC) Code 4812 (now NAICS Code 513322). Since the size data provided by the Small Business Administration do not enable us to make a meaningful estimate of the number of marine radio service providers and users that are small businesses, we have used the 1992 Census of Transportation, Communications, and Utilities, conducted by the Bureau of the Census, which is the most recent information available. This document shows that 12 radiotelephone firms out of a total of 1,178 such firms which operated in 1992 had at least 1,000 employees. Thus, we estimate that as many as 1,166 small entities will be affected. We invite comment on whether this is the correct definition to use in this context.

12. The proposed amendments may also affect small businesses that manufacture marine radio equipment. The Commission has not developed a definition of small entities applicable to Radio Frequency Equipment Manufacturers (RF Manufacturers). Therefore, the applicable definition of small entity is the definition under the SBA rules applicable to manufacturers of “Radio and Television Broadcasting and Communications Equipment.” According to the SBA regulations, an RF manufacturer must have 750 or fewer employees in order to qualify as a small business. Census Bureau data indicate that there are 858 companies in the United States that manufacture radio and television broadcasting and communications equipment, and that 778 of these firms have fewer than 750 employees and would be classified as small entities. Some of the companies that manufacture RF equipment may qualify as small entities. We invite comment on whether this is the correct definition to use in this context.

D. Description of Projected Reporting, Recordkeeping, and Other Compliance Requirements

13. The FNPRM seeks comment on a number of possible rule changes that may affect reporting, recordkeeping and other compliance requirements.

14. The FNPRM seeks comment on a proposal by the USCG to require any coast station operating on Channel 70 to answer a distress call on Channel 70 if a USCG station does not or cannot answer such a call within the required time. We ask that commenters provide information on the economic impact of such a requirement on public coast stations.

15. The Further Notice seeks comment on a proposal by the USCG to amend 47 CFR 80.203 to bar ship stations from including any device capable of transmitting on a distress frequency without regulatory authorization. We invite comment specifically on the impact such a rule change may have on manufacturers.

16. The FNPRM seeks comment on USCG proposals to make Channels 75 and 76 available for navigation-related port operations, including a proposal to amend 47 CFR 80.215(g)(3) to require that transmitters reduce the carrier power to one watt or less when tuned to Channel 75 or 76, with no manual override capability. We ask commenters to address the impact such a rule change would have on manufacturers. We ask specifically whether all new radios should be required to have the two new channels, and request suggestions on appropriate grandfathering clauses, should the new transmitter power and channel addition proposals be implemented.

17. The FNPRM seeks comment on a USCG proposal to incorporate in 47 CFR 80.225 the RTCM Special Committee's Recommended Practices for Digital Selective Calling Equipment Design and Implementation. We note that this change would affect manufacturers of basic selective calling equipment as well as digital selective calling equipment, and ask commenters to address whether and, if so, to what extent existing equipment should be grandfathered if this proposal is adopted.

18. The FNPRM seeks comment on a proposal to amend 47 CFR 80.905(a) to require that the VHF and MF radios mandated by that rule be DSC-equipped. We observe that this is a major change that would affect numerous passenger ships, and express concern over the propriety of such a rule change given that DSC is GMDSS equipment, and small passenger vessels are not covered by our GMDSS rules.

19. The FNPRM seeks comment on a USCG proposal to further amend 47 CFR 80.905(a) to mandate that newly fitted SSB radios required of ships operating over one hundred nautical miles from shore be DSC-equipped in accordance with ITU-R Rec. (series) M.493. It also seeks comment on a related Task Force recommendation to prohibit vessels operating over two hundred nautical miles from shore from using an SSB radio in lieu of the HF-DSC channels prescribed for GMDSS. We seek further comment on these changes for the same reasons applicable to our § 80.905(a) proposal discussed in the preceding paragraph.

20. The FNPRM seeks comment on a proposal to further amend 47 CFR 80.905(a) to specify that the INMARSAT ship earth stations that may be carried by ships operating more than one hundred nautical miles from shore in lieu of an SSB radio be limited to ship earth stations authorized under this section to INMARSAT A (existing units only), B, C or M. It also seeks comment on a USCG proposal to amend 47 CFR 80.905(a) to revise the requirements regarding testing of battery chargers and updating of position information applicable to vessels required to carry SSB radios. We seek public comment on these proposals, particularly with respect to their potential impact on small passenger vessels.

21. The FNPRM seeks comment on proposals to amend 47 CFR 80.1073, 80.1083, and 80.1085 to incorporate additional GMDSS requirements for passenger ships. These proposed rule changes pertain to the availability of GMDSS radio operators in cases of distress, the installation and operation of distress panels, and equipment that can be used for two-way search and rescue purposes on the aeronautical frequencies 121.5 MHz and 123.1 MHz. Comment is invited on all aspects of these proposals, including the economic impact, if any, on small entities.

22. Finally, commenters are asked to identify any other proposed or discussed rule changes in the FNPRM that may have a significant economic impact on a substantial number of small entities.

E. Steps Taken To Minimize Significant Economic Impact on Small Entities and Significant Alternatives Considered

23. The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

24. The FNPRM solicits comment on a variety of alternatives set forth herein that fit into one or more of the above categories. For example, we ask commenters to consider whether we should provide grandfathering protection if we adopt certain of the proposed requirements, and thereby relieve either all affected entities or affected small entities of the burdens that would attend immediate implementation of the requirements with no transitional period. We ask if existing transmitters should be grandfathered from requirements, if adopted, that transmitters be capable of operating on Channels 75 and 76 and that transmitters reduce the carrier power to one watt or less when tuned to those channels, with no manual override capability. We also ask if existing digital selective calling equipment should be grandfathered with respect to a requirement, if adopted, to incorporate the RTCM Special Committee's Recommended Practices for Digital Selective Calling Equipment Design and Implementation.

25. In addition, we hereby invite commenters to address the possibility of exempting certain entities, particularly small entities, from some of the proposed requirements. For example, we seek comment on whether the proposed amendment of 47 CFR 80.225 should apply to manufacturers of basic selective calling equipment as well as manufacturers of digital selective calling equipment. We also question whether small passenger vessels should be exempt from the DSC requirements that would otherwise apply to them by virtue of the proposed amendment of 47 CFR 80.905(a). More broadly, commenters may suggest, with respect to any entities, including small entities, exemptions from any of the requirements proposed or discussed in the FNPRM.

26. Further, the proposed requirements for new equipment generally take the form of performance standards rather than design standards, and therefore confer on smaller entities the flexibility to select the most economical design that can achieve the required performance. For example, the RTCM standards for digital selective calling equipment that we propose to incorporate in 47 CFR 80.225 mandate certain functionality for digital selective calling equipment but do not mandate that manufacturers design their equipment in any particular way in order to achieve that functionality. In a similar vein, the proposed requirements for INMARSAT-E EPIRBs are framed strictly in terms of performance standards.

27. We hereby invite interested parties to address any or all of these regulatory alternatives and to suggest additional alternatives to minimize any significant economic impact on small entities. Any significant alternative presented in the comments will be considered.

F. Federal Rules That May Duplicate, Overlap, or Conflict With the Proposed Rules

28. None.

III. Ordering Clauses

29. Pursuant to Sections 4(i), 303(r), and 403 of the Communications Act of 1934, as amended, 47 U.S.C. 154(i), 303(r) and 403, this Further Notice of Proposed Rule Making is hereby adopted, and Notice is hereby given of the proposed regulatory changes described in the Further Notice of Proposed Rule Making and contained in Rule Changes.

30. The Commission will send a copy of this Further Notice of Proposed Rule Making, including a copy of the Final Regulatory Flexibility Certification and a copy of this Initial Regulatory Flexibility Analysis, in a report to Congress pursuant to the Congressional Review Act. In addition, this Further Notice of Proposed Rule Making, Final Regulatory Flexibility Certification and Initial Regulatory Flexibility Analysis will be sent to, the Chief Counsel for Advocacy of the Small Business Administration, and will be published in the Federal Register.

31. The Commission's Consumer Information Bureau, Reference Information Center, SHALL SEND a copy of this Further Notice of Proposed Rule Making, including the Initial Regulatory Flexibility Analysis, to the Chief Counsel for Advocacy of the Small Business Administration.

List of Subjects in 47 CFR Part 80

Communications equipment, Marine safety, Radio, Reporting and recordkeeping requirements.

Federal Communications Commission.
Marlene H. Dortch,
Secretary.

Rule Changes

For the reasons discussed in the preamble, the Federal Communications Commission amends 47 CFR parts 80 as follows:

PART 80—STATIONS IN THE MARITIME SERVICES

1. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

2. Section 80.225 is amended by revising paragraph (a) to read as follows:

§ 80.225 Requirements for selective calling equipment.

* * * * *

(a) DSC equipment voluntarily installed in coast or ship stations must meet either the requirements of ITU-R Recommendation 493-10 (including only equipment classes A, B, D, and E) or RTCM Paper 56-95/SC101-STD. DSC equipment must not be used with the sensors referred to in § 80.179(e)(2). DSC equipment used on compulsorily fitted ships must meet the requirements contained in subpart W for GMDSS. All DSC equipment must:

(1) Allow the operator to disable any automatic radiotelephone channel switching function;

(2) Allow the operator the option of manually acknowledging any call;

(3) Not allow the automatic composition of a distress relay alert whose acknowledgment had already been received;

(4) Automatically erase any position information not updated for more than 23 ½ hours;

(5) Explicitly prohibit the offering of wrong identities in relay messages;

(6) Ensure that default selections in a displayed menu requesting input, when allowed, should at a minimum follow ITU-R Recommendation M.541-8. A default selection shall never cause an improper or illegal operation.

* * * * *

3. Section 80.373 is amended by revising paragraph (f) to read as follows:

§ 80.373 Private communications frequencies.

* * * * *

(f) Frequencies in the 156-162 MHz band. The following tables describe the carrier frequencies available in the 156-162 MHz band for radiotelephone communications between ship and private coast stations. (Note: the letter “A” following the channel designator indicates simplex operation on a channel designated internationally as a duplex channel.)

Frequencies in the 156-162 MHz band
Channel designator | Carrier frequency (MHz) Ship transmit | Carrier frequency (MHz) Coast transmit | Points of communication (Intership and between Coast and ship unless otherwise indicated)
Port Operations
01A¹ | 156.050 | 156.050
63A¹ | 156.175 | 156.175
05A² | 156.250 | 156.250
65A | 156.275 | 156.275
66A | 156.325 | 156.325
12³ | 156.600 | 156.600
73 | 156.675 | 156.675
14³ | 156.700 | 156.700
74 | 156.725 | 156.725
75¹⁸ | 156.775 | 156.775
76¹⁸ | 156.825 | 156.825
77⁴ | 156.875 | Intership only.
20A¹² | 157.000 |  | Intership only.
Navigational (Bridge-to-Bridge)⁵
13⁶ | 156.650 | 156.650
677 | 156.375 | 156.375
Commercial
01A¹ | 156.050 | 156.050
63A¹ | 156.175 | 156.175
07A | 156.350 | 156.350
67⁷ | 156.375 |  | Intership only.
08 | 156.400 |  | Intership only.
09 | 156.450 | 156.450
10 | 156.500 | 156.500
11³ | 156.550 | 156.550
18A | 156.900 | 156.900
19A | 156.950 | 156.950
79A | 156.975 | 156.975
80A | 157.025 | 157.025
88A⁸ | 157.425 |  | Intership only.
72¹⁴ | 156.625 |  | Intership only.
Digital Selective Calling
70¹⁵ | 156.525 | 156.525
Noncommercial
68¹⁷ | 156.425 | 156.425
09¹⁶ | 156.450 | 156.450
69 | 156.475 | 156.475
71 | 156.575 | 156.575
72 | 156.625 |  | Intership only.
78A | 156.925 | 156.925
79A | 156.975 | 156.975 | Great Lakes only.
80A | 157.025 | 157.025 | Great Lakes only.
67¹⁴ | 156.375 |  | Intership only.
Distress, Safety and Calling
16 | 156.800 | 156.800
Intership Safety
06 | 156.300 |  | Intership, or b. For SAR: Ship and aircraft for the U.S. Coast Guard.
Environmental
15¹³ |  | 156.750 | Coast to ship only.
Maritime Control
17⁹,¹⁰ | 156.850 | 156.850
Liaison and Safety Broadcasts, U.S. Coast Guard
22A¹¹ | 157.100 | 157.100 | Ship, aircraft, and coast stations of the U.S. Coast Guard and at Lake Mead, Nev., ship and coast stations of the National Park Service, U.S. Department of the Interior.
¹ 156.050 MHz and 156.175 MHz are available for port operations and commercial communications purposes when used only within the U.S. Coast Guard designated Vessel Traffic Services (VTS) area of New Orleans, on the lower Mississippi River from the various pass entrances in the Gulf of Mexico to Devil's Swamp Light at River Mile 242.4 above head of passes near Baton Rouge.
² 156.250 MHz is available for port operations communications use only within the U.S. Coast Guard designated VTS radio protection areas of New Orleans and Houston described in § 80.383.
³ 156.550 MHz, 156.600 MHz and 156.700 MHz are available in the U.S. Coast Guard designated port areas only for VTS communications and in the Great Lakes available primarily for communications relating to the movement of ships in sectors designated by the St. Lawrence Seaway Development Corporation or the U.S. Coast Guard. The use of these frequencies outside VTS and ship movement sector protected areas is permitted provided they cause no interference to VTS and ship movement communications in their respective designated sectors.
⁴ Use of 156.875 MHz is limited to communications with pilots regarding the movement and docking of ships. Normal output power must not exceed 1 watt.
⁵ 156.375 MHz and 156.650 MHz are available primarily for intership navigational communications. These frequencies are available between coast and ship on a secondary basis when used on or in the vicinity of locks or drawbridges. Normal output power must not exceed 1 watt. Maximum output power must not exceed 10 watts for coast stations or 25 watts for ship stations.
⁶ On the Great Lakes, in addition to bridge-to-bridge communications, 156.650 MHz is available for vessel control purposes in established vessel traffic systems. 156.650 MHz is not available for use in the Mississippi River from South Pass Lighted Whistle Buoy “2” and Southwest Pass entrance Mid-channel Lighted Whistle Buoy to mile 242.4 above Head of Passes near Baton Rouge. Additionally it is not available for use in the Mississippi River-Gulf Outlet, the Mississippi River-Gulf Outlet Canal, and the Inner Harbor Navigational Canal, except to aid the transition from these areas.
⁷ Use of 156.375 MHz is available for navigational communications only in the Mississippi River from South Pass Lighted Whistle Buoy “2” and Southwest Pass entrance Mid-channel Lighted Whistle Buoy to mile 242.4 above Head of Passes near Baton Rouge, and in addition over the full length of the Mississippi River-Gulf Outlet Canal from entrance to its junction with the Inner Harbor Navigational Canal, and over the full length of the Inner Harbor Navigational Canal from its junction with the Mississippi River to its entry to Lake Pontchartrain at the New Seabrook vehicular bridge.
⁸ Within 120 km (75 miles) of the United States/Canada border, in the area of the Puget Sound and the Strait of Juan de Fuca and its approaches, 157.425 MHz is half of the duplex pair designated as Channel 88. In this area, Channel 88 is available to ship stations for communications with public coast stations only. More than 120 km (75 miles) from the United States/Canada border, in the area of the Puget Sound and the Strait of Juan de Fuca, its approaches, the Great Lakes, and the St. Lawrence Seaway, 157.425 MHz is available for intership and commercial communications. Outside Puget Sound area and its approaches and the Great Lakes, 157.425 MHz is also available for communications between commercial fishing vessels and associated aircraft while engaged in commercial fishing activities.
⁹ When the frequency 156.850 MHz is authorized, it may be used additionally for search and rescue training exercises conducted by state or local governments.
¹⁰ The frequency 156.850 MHz is additionally available to coast stations on the Great Lakes for transmission of scheduled Coded Marine Weather Forecasts (MAFOR), Great Lakes Weather Broadcast (LAWEB) and unscheduled Notices to Mariners or Bulletins. F3C and J3C emissions are permitted. Coast stations on the Great Lakes must cease weather broadcasts which cause interference to stations operating on 156.800 MHz until the interference problem is resolved.
¹¹ The frequency 157.100 MHz is authorized for search and rescue training exercises by state or local government in conjunction with U.S. Coast Guard stations. Prior U.S. Coast Guard approval is required. Use must cease immediately on U.S. Coast Guard request.
¹² The duplex pair for channel 20 (157.000/161.600 MHz) may be used for ship to coast station communications.
¹³ Available for assignment to coast stations, the use of which is in accord with an agreed program, for the broadcast of information to ship stations concerning the environmental conditions in which vessels operate, i.e., weather; sea conditions; time signals; notices to mariners; and hazards to navigation.
¹⁴ Available only in the Puget Sound and the Strait of Juan de Fuca.
¹⁵ The frequency 156.525 MHz is to be used exclusively for distress, safety and calling using digital selective calling techniques. No other uses are permitted.
¹⁶ The frequency 156.450 MHz is available for intership, ship and coast general purpose calling by noncommercial vessels, such as recreational boats and private coast stations.
¹⁷ The frequency 156.425 MHz is assigned by rule to private coast stations in Alaska for facsimile transmissions as well as voice communications.
¹⁸ The frequencies 156.775 and 156.825 MHz are available for navigation-related port operations or ship movement only, and all precautions must be taken to avoid harmful interference to channel 16. Transmitter output power is limited to 1 watt for ship stations, and 10 watts for coast stations.

* * * * *

4. Section 80.1083 is amended by adding a new paragraph (d) to read as follows:

§ 80.1083 Ship radio installations.

* * * * *

(d) In passenger ships,

(1) A distress panel must be installed at the conning position. This panel shall contain either one single button which, when pressed, initiates a distress alert using all radiocommunications installations required on board for that purpose or one button for each individual installation. The panel must clearly and visually indicate whenever any button or buttons have been pressed. Means must be provided to prevent inadvertent activation of the button or buttons. If the satellite EPIRB is used as the secondary means of distress alerting and is not remotely activated, it shall be acceptable to have an additional EPIRB installed in the wheelhouse near the conning position;

(2) Information on the ship's position must be continuously and automatically provided to all relevant radiocommunications equipment to be included in the initial distress alert when the button or buttons on the distress panel is pressed; and

(3) A distress alarm panel must be installed at the conning position. The distress alarm panel must provide visual and aural indication of any distress alert or alerts received on board and shall also indicate through which radiocommunication service the distress alerts have been received.

5. Section 80.1085 is amended by adding new paragraph (e) to read as follows:

§ 80.1085 Ship radio equipment-General.

* * * * *

(e) Every passenger ship shall be provided with means for two-way on-scene radiocommunications for search and rescue purposes using the aeronautical frequencies 121.5 and 123.1 MHz from the position from which the ship is normally navigated.

[FR Doc. 02-12430 Filed 5-16-02; 8:45 am]

BILLING CODE 6712-01-P